DEPARTMENT OF HOUSING AND URBAN DEVELOPMENT

24 CFR Parts 50, 55, and 58

[Docket No. FR-5423-P-01]

RIN 2501-AD51

Floodplain Management and Protection of Wetlands

Correction

In proposed rule document 2011-31629 appearing on pages 77162-77175 in the issue of December 12, 2011, make the following correction:

§ 55.11 [Corrected]

The table on page 77171 is corrected to read as set forth below:

Table 1
Type of proposed action (new reviewable action or an amendment) ¹ | Type of proposed action: Floodways | Type of proposed action: Coastal high hazard areas | Type of proposed action: Wetlands or 100-year floodplain outside coastal high hazard area and floodways | Type of proposed action: Non-wetlands area outside of the 100-year and within the 500-year floodplain
Critical Actions as defined in § 55.12(b)(2) | Critical actions not allowed. | Critical actions not allowed. | Allowed if the proposed critical action is processed under § 55.20.² | Allowed if the proposed critical action is processed under § 55.20.²
Non-critical actions not excluded under § 55.12(b) or (c) | Allowed only if the proposed non-critical action is a functionally dependent use and processed under § 55.20.² | Allowed only if the proposed non-critical action: (A)(1) Is either (a) reconstruction of a structure destroyed by a disaster, or (b) an improvement of an existing structure; (2) is designed for a Coastal High Hazard Area under § 55.1(c)(3); and (3) is processed under § 55.20; ² or (B) Is a functionally dependent use processed under § 55.20. | Allowed if proposed non-critical action is processed under § 55.20.² | Any non-critical action is allowed without processing under this part.
¹ Under E.O. 11990, the decision making process in § 55.20 only applies to Federal assistance for new construction in wetlands locations.
² Or those paragraphs of § 55.20 that are applicable to an action listed in § 55.12(a).

[FR Doc. C1-2011-31629 Filed 12-20-11; 8:45 am]

BILLING CODE 1505-01-D